DEPARTMENT OF JUSTICE

[OMB Number 1125-0001]

Agency Information Collection Activities; Proposed Collection eComments Requested; Extension and Revision of a Previously Approved Collection; Application for Cancellation of Removal (Form EOIR-42A) for Certain Permanent Residents; and Application for Cancellation of Removal and Adjustment of Status (Form EOIR-42B) for Certain Nonpermanent Residents

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until October 6, 2025.

FOR FURTHER INFORMATION CONTACT: If you have additional comments especially on the estimated public burden or associated response time, suggestions, or need a copy of the proposed information collection instrument with instructions or additional information, please contact Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: An individual who is removable from the United States may, pursuant to section 240A of the Immigration and Nationality Act (Act), request that the Attorney General cancel their removal. To be granted such relief from removal, the applicant must prove that they meet all of the statutory prerequisites for such relief and that they are entitled to a favorable exercise of discretion. There are two application forms available for cancellation of removal: Form EOIR-42A, for Certain Permanent Residents; and Form EOIR-42B, Adjustment of Status for Certain Nonpermanent Residents. This information collection is necessary to determine the statutory eligibility of individuals in removal proceedings who have been determined to be removable from the United States for cancellation of their removal, as well as to provide information relevant to a favorable exercise of discretion. EOIR is revising these forms to update references to filing fee information, to include a Privacy Act Notice for each form, to include the expiration date for OMB approval on each form, and to implement minor text formatting changes to improve organization, clarity, and readability.

Overview of This Information Collection

1. Type of Information Collection: Extension and Revision of a previously approved collection.

2. The Title of the Form/Collection: Application for Cancellation of Removal for Certain Permanent Residents; and Application for Cancellation of Removal and Adjustment of Status for Certain Nonpermanent Residents.

3. The agency form number, if any, and the applicable component of the Department sponsoring the collection: The form numbers are EOIR-42A and EOIR-42B; and the sponsoring DOJ component is EOIR.

4. Affected public who will be asked or required to respond, as well as the obligation to respond: Affected Public: Individuals in removal proceedings before EOIR determined to be removable from the United States. This information collection is necessary to determine the statutory eligibility of individuals in removal proceedings who have been determined to be removable from the United States for cancellation of their removal, as well as to provide information relevant to a favorable exercise of discretion pursuant to 8 U.S.C. 1229b(a); INA § 240A(a).

5. An estimate of the total number of respondents and the amount of time estimated for an average respondent to respond: It is estimated that 1,519 respondents will complete the form annually for Cancellation of Removal for Certain Permanent Residents with an average of 5 hours and 50 minutes per response. It is estimated that 15,757 respondents will complete the form annually for Cancellation of Removal and Adjustment of Status for Certain Nonpermanent Residents with an average of 5 hours and 50 minutes per response.

6. An estimate of the total annual burden (in hours) associated with the collection: The total annual burden hours for this collection is 8,856 hours for Cancellation of Removal for Certain Permanent Residents and 91,865 hours for Cancellation of Removal and Adjustment of Status for Certain Nonpermanent Residents.

Total Burden Hours
Activity | Number of respondents | Frequency | Total annual responses | Time per response (hours) | Total annual burden (hours)
EOIR-42A | 1,519 | 1/annually | 1,519 | 5.83 | 8,856
EOIR-42B | 15,757 | 1/annually | 15,757 | 5.83 | 91,865

7. An estimate of the total annual cost burden associated with the collection, if applicable:

Total Public Cost
Activity | Practitioner cost | Filing fee | Total annual responses | Total annual public cost
EOIR-42A | $70.08/hr × 5.83 hours per response = $408 per response | $700 per response | 1,519 | $1,683,912
EOIR-42B | $70.08/hr × 5.83 hours per response = $408 per response | $1,600 per response | 15,757 | 31,640,056

Printing and postage costs associated with filing these forms may be avoided because all forms may be submitted electronically. The estimated total public cost for each form is derived by adding the estimated cost to hire a practitioner to assist with preparing the form with the filing fee per form and then multiplying by the total number of annual responses. The estimated practitioner cost is based on the average hourly wage for an attorney as estimated by the Bureau of Labor Statistics.

If additional information is required contact: Darwin Arceo, Department Clearance Officer, United States Department of Justice, Justice Management Division, Policy and Planning Staff, Two Constitution Square, 145 N Street NE, 4W-218, Washington, DC.

Dated: August 1, 2025.
Darwin Arceo,
Department Clearance Officer for PRA, U.S. Department of Justice.

[FR Doc. 2025-14807 Filed 8-4-25; 8:45 am]

BILLING CODE 4410-30-P